DEPARTMENT OF THE TREASURY

United States Mint

Notification of Citizens Coinage Advisory Committee September 2005 Public Meeting

SUMMARY: Pursuant to United States Code, Title 31, section 5135(b)(8)(C), the United States Mint announces the Citizens Coinage Advisory Committee (CCAC) public meeting scheduled for September 27, 2005, at United States Mint Headquarters in Washington, DC. The purpose of this meeting is to advise the Secretary of the Treasury on themes and designs pertaining to the coinage of the United States and for other purposes.

Date: September 27, 2005.

Time: 1 p.m. to 4 p.m.

Location: The United States Mint; 801 9th Street, NW.; Washington, DC; 2nd floor.

Subject: Review design candidates for the Jamestown 400th Anniversary Commemorative Coin Program, the Dr. Martin Luther King and Coretta Scott King Congressional Gold Medal, and other business.

Interested persons should call 202-354-7502 for the latest update on meeting time and room location.

The CCAC was established to:

• Advise the Secretary of the Treasury on any theme or design proposals relating to circulating coinage, bullion coinage, Congressional Gold Medals, and national and other medals.

• Advise the Secretary of the Treasury with regard to the events, persons, or places to be commemorated by the issuance of commemorative coins in each of the five calendar years succeeding the year in which a commemorative coin designation is made.

• Make recommendations with respect to the mintage level for any commemorative coin recommended.

FOR FURTHER INFORMATION CONTACT: Madelyn Simmons Marchessault, United States Mint Liaison to the CCAC; 801 9th Street, NW., Washington, DC 20220; or call 202-354-7200.

Any member of the public interested in submitting matters for the CCAC's consideration or addressing the CCAC is invited to submit the request and/or materials by fax to the following number: 202-756-6830.

Authority: 31 U.S.C. 5135(b)(8)(C)

Dated: August 25, 2005.
David Lebryk,
Acting Director, United States Mint.

[FR Doc. 05-17474 Filed 9-1-05; 8:45 am]

BILLING CODE 4810-37-P